DEPARTMENT OF TRANSPORTATION

National Highway Traffic Safety Administration

Discretionary Cooperative Agreements To Support the Demonstration of Effective Programs Using Methods or Technologies Targeted at Reducing Alcohol Impaired Driving by Individuals Age 21 Through 34

AGENCY: National Highway Traffic Safety Administration (NHTSA), DOT.

ACTION: Announcement of discretionary cooperative agreements to support the demonstration of effective programs using inventive methods or technologies targeted at reducing alcohol impaired driving by individuals age 21 through 34.

SUMMARY: The National Highway Traffic Safety Administration (NHTSA) announces a discretionary cooperative agreement to solicit support for the demonstration of effective programs using inventive methods or technologies targeted at reducing alcohol impaired driving by individuals age 21 through 34.

The goal of NHTSA's Impaired Driving program is to reduce alcohol-related fatalities to no more than 11,000 by the year 2005. While progress has been made in reducing alcohol-related fatalities, successful inventive methods and collaborative partnering programs need to be demonstrated and made available for replication in order to achieve the national goal. This cooperative agreement project is to support the demonstration of inventive methods programs and new approaches that have demonstrated or have the potential to demonstrate reductions in alcohol-impaired fatalities and injuries by individuals age 21-34. NHTSA solicits applications from public and private, non-profit, not-for-profit and commercial organizations, governments and their agencies, or a consortium of these organizations that demonstrate effective programs using inventive methods or technologies targeted at reducing alcohol impaired driving by individuals age 21 through 34.

DATES: Applications must be received no later than August 3, 2001, at 3:00 p.m., Eastern Standard Time.

ADDRESSES: Applications must be submitted to the National Highway Traffic Safety Administration, Office of Contracts and Procurement (NAD-30), ATTN: Joseph A. Comella, 400 7th Street, SW., Room 5301, Washington, DC 20590. All applications submitted must include a reference to NHTSA Cooperative Agreement Program No. DTNH22-01-H-07010.

FOR FURTHER INFORMATION CONTACT: General administrative questions may be directed to Joseph A. Comella, Office of Contracts and Procurement at (202) 366-9568 or by e-mail: jcomella@nhtsa.dot.gov. Programmatic questions should be directed to J. De Carlo Ciccel, Impaired Driving Division, NTS-11, NHTSA, 400 7th Street, SW., Washington, DC 20590 (202) 366-1694, facsimile (202) 366-2766, or by e-mail: dciccel@nhtsa.dot.gov. Interested applicants are advised that no separate application package exists beyond the contents of this announcement.

SUPPLEMENTARY INFORMATION:

Background

The goal of NHTSA's Impaired Driving program is to reduce alcohol-related fatalities to no more than 11,000 by the year 2005. Modest progress has been made in reducing alcohol-related fatalities over the last ten years. As a percentage of all traffic fatalities, alcohol-related fatalities dropped from 49 percent to 38 percent during the period 1989 to 1999. The 15,786 alcohol-related fatalities reported in 1999 represent a 30 percent reduction from the 22,404 reported in 1989.

From 1982 to 1999, the number of drivers involved in alcohol-related fatal crashes decreased for drivers of all age groups, with the youngest and oldest drivers experiencing the largest percentage decrease. Drivers 65 and older, involved in alcohol-related fatal crashes, decreased 50 percent (from 14 percent in 1982 to 7 percent in 1999); drivers 15 to 20 years of age, involved in alcohol-related fatal crashes, dropped 52 percent (from 43 percent in 1982 to 21 percent in 1999); drivers age 35-64, involved in alcohol-related fatal crashes, decreased 33 percent (from 30 percent in 1982 to 20 percent in 1999); and drivers age 21-34, involved in alcohol-related fatal crashes, dropped 33 percent (from 47 percent in 1982 to 32 percent in 1999).

The 1999 Fatality Analysis Reporting System (FARS) data indicates that 43 percent of all drivers involved fatal alcohol-related crashes were 21 to 34 years of age. In 1999, the highest percentages of drivers with blood alcohol concentrations (BAC) of 0.10

g/dl or greater in fatal crashes were drivers 21-24 years old (27 percent) and 25-34 years old (24 percent). For drivers with high BACs, these age groups have shown essentially no change in percentages since 1995.

In addition, 45 percent of occupants killed in alcohol-related crashes did not use safety belts or other restraints. Of those unrestrained occupants killed in alcohol-related crashes, approximately 80 percent were involved in a crash in which the driver had a BAC of 0.10

g/dl or greater.

Innovations in enforcement, public education, alcohol screening and treatment, prevention, technology, and the passage of legislation have all contributed to this decline. While some progress has been made in reducing alcohol-related fatalities, expanding beyond current technologies and program initiatives is imperative to significantly reduce the number of alcohol-related fatalities and achieve the national goal. Equally important is documenting and making available those programs that have demonstrated success in reducing alcohol-related fatalities among individuals age 21-34.

Partners in Progress

In 1995, NHTSA convened more than 100 people (Partners-in-Progress) to explore how to achieve this national goal. Then, in January 1996, NHTSA convened an Implementation Group to develop an action plan from the Partners in Progress recommended strategies in order to achieve the national goal. The Group drafted a “Guide for Action” addressing the following seven countermeasure areas:

(1) Public education;

(2) Individual responsibility;

(3) Legislation;

(4) Enforcement and adjudication;

(5) Technology;

(6) Health care community; and

(7) Businesses and employers.

Innovations in enforcement, alternative sanctions, public education, alcohol prevention, screening and treatment, technology, and the passage of tougher legislation have all contributed to the current decline. However, more needs to be done in order to continue making significant gains in reducing alcohol impaired driving. It will take new ideas, creative approaches, inventive programs, new partners, and new or improved technologies to significantly lower the number of alcohol-related deaths and, more importantly, to change the behavior of those who drive while impaired.

This announcement solicits proposals for cooperative agreements to demonstrate successful inventive programs that reduce driving while under the influence by individuals age 21 through 34, based on the effective application of one or more of the seven (7) countermeasure areas listed above and described in the Partners in Progress: An Impaired Driving Guide for Action. In addition to countermeasure areas, inventive programs should include multifaceted elements of a community (i.e., faith community, advocacy groups, media, public works, entertainment, law enforcement, highway safety, and recreation). Proposals will receive preference that demonstrate geographic and demographic diversity, that address or desire to address multiple countermeasure areas, as well as, varying size of community(s) to be reached.

Objective

The objective of this project is to demonstrate several comprehensive programs that have used or plan to use innovation and creativity, targeted at reducing alcohol impaired driving by individuals age 21 through 34. If an applicant has a new or an existing program targeted specifically at 21-34 year-olds that does not include one or more of the seven (7) countermeasure areas and/or multiple elements of the community as listed above, but proposes to use this project as an opportunity to implement those components in such a program, that proposal will receive consideration for award, if the implementation, evaluation, and documentation can be conducted during the time frame for this project.

Availability of Funds and Period of Support

A total of $1,000,000 is available in Fiscal Year 2001 to fund the demonstration of up to twelve (12) comprehensive programs targeted at individuals age 21-34. Individual project awards may range from $50,000 to $300,000. This stated range does not establish a minimum or maximum funding level. Given the amount of funds available for this effort, applicants are strongly encouraged to seek other funding opportunities to supplement the Federal funds. Preference will be given to applicants with cost-sharing proposals, matching funds, or in-kind commitment of resources.

NHTSA Involvement

NHTSA will be involved in all activities undertaken as part of the cooperative agreement program and will:

1. Provide a Contracting Officer's Technical Representative (COTR) to participate in the planning and management of each cooperative agreement and to coordinate activities between the Grantee and NHTSA.

2. Provide information and technical assistance from government sources within available resources and as determined appropriate by the COTR.

3. Serve as a liaison between NHTSA Headquarters, Regional Offices and others (Federal, State, and local) interested in alcohol programs to reduce driving while under the influence of alcohol by individuals age 21 through 34, and the activities of the grantee as appropriate.

4. Stimulate the transfer of information among cooperative agreement recipients and others engaged in alcohol program activities, specifically designed to address individuals age 21 through 34.

5. Review and approve draft and final versions of the deliverables.

Eligibility Requirements

Applications may be submitted by public or private, non-profit, not-for-profit, commercial organizations, and governments and their agencies or a consortium of the above. Universities, colleges, research institutions, hospitals, other public and private organizations, and State and local governments are eligible to apply. Each application package must include a letter of acknowledgment or support for the proposed application from their Governor's Highway Safety Representative or Highway Safety Office to be deemed eligible. Interested applicants are advised that no fee or profit will be allowed under this cooperative agreement solicitation. Eligible programs will be limited to those that target individuals ages 21-34 and contain one or more of the seven (7) Partners in Progress countermeasure areas. Eligible programs will require collaboration among the various contributing partners, agencies, and organizations.

Application Procedures

Each applicant must submit one original and two copies of the application package to: NHTSA, Office of Contracts and Procurement (NAD-

30), ATTN: Joseph A. Comella, 400 7th Street, SW., Room 5301, Washington, DC 20590. Submission of three (3) additional copies will expedite processing, but is not required. The application may be single spaced, must be typed on one side of the page only, and must include a reference to NHTSA Cooperative Agreement No. DTNH22-01-H-07010. Unnecessarily elaborate applications beyond what is sufficient to present a complete and effective response to this invitation are not desired. Only complete application packages received on or before due date, (See DATES above) will be considered.

Note: applicants interested in submitting more than one inventive project must prepare a separate application package for each project. In addition, programs with multiple partners must submit a single or collaborative application. Only one award will be awarded per eligible program.

Application Content

1. The application package must be submitted with OMB Standard Form (SF) 424 (Rev. 4-88, including 424A and 424B), Application for Federal Assistance, with the requirement information filled in and certified assurances signed. OMB forms are available for download and printing on the Internet at www.whitehouse.gov/OMB/grants/index.html site. While the SF 424A deals with budget information, and Section B identifies Budget Categories, the available space does not permit a level of detail sufficient to provide meaningful evaluation of the proposed total costs. A supplemental sheet shall be provided which presents a detailed breakdown of the proposed costs, as well as any costs which the applicant indicates will be contributed locally in support of the demonstration project.

2. The application shall include a program narrative statement which addresses the following information in separately labeled sections:

a. A description of the community or communities in which the program is or will be administered. For the purposes of this project, a “community” includes a state, city, town or county, small metropolitan area, a large neighborhood, even a workplace (i.e., it does not have to correspond with a political jurisdiction). It should be large enough so that program results are demonstrated. A description of an existing full working partnership or one that will be established to maintain or enhance the program. The application shall describe all the partners that will participate in this project (e.g., local government, law enforcement, health care providers, media, citizens, corporate, etc.) and the role of each partner.

b. A description of the goals and objectives of the program. Goals should be clearly stated and the objectives time-phased with specific, measured, and achieved outcomes that demonstrate the reduction of impaired driving by individuals age 21-34.

c. A Work Plan outline which will be the basis for developing the demonstration project. Applicants desiring to accomplish an inventive program targeted at reducing alcohol impaired driving by individuals 21 through 34 using one or more of the seven (7) Partners in Progress countermeasure areas must address what they propose to develop, implement, evaluate, and document; how this will be accomplished, and include the major tasks/milestones necessary to complete this project. This involves identification and solution of potential technical problems and critical issues related to successful completion of this project. Briefly outline a specific work plan to document your program's history, how to implement a similar program, and a plan to evaluate the effectiveness of the program in reducing impaired driving to include lessons-learned, best practices, organizational support, outside agency support, and costs. This outline should identify specific tasks required to accomplish the goals and objectives of the project detailing how the program will be documented for replication by another agency, jurisdiction, or organization. The specific innovation, intervention, and/or activity must be included in the aforementioned work plan to include: What action will the community undertake to reach its objectives? How will the innovation, intervention, and/or activity be delivered and monitored? What are the expected results from the innovation, intervention, and/or activity?

d. An Evaluation Plan (both qualitative and quantitative) that describes the kinds of questions that may be posed in replicating the selected programs. For existing programs and for those who propose to use this project to incorporate countermeasure areas or community elements, this Evaluation Plan will describe the kinds of questions to be addressed by the evaluation design, what the outcome measures are, how they were or will be measured, the methodology for collecting that data, how often data is or will be collected, and how the data is being or will be analyzed. For proposed programs, the Evaluation Plan shall indicate how the incorporation of countermeasure areas or the community element will enhance the desired outcome to reduce impaired driving by individual age 21-34.

e. A description of how this project will be managed. The application shall identify the proposed project manager and any personnel considered critical to the successful documentation of the proposed program. The roles and responsibilities of the applicant and others included in the application package shall be specified. The proposed level of effort in performing various activities shall also be identified. A staffing plan and resume for all key project personnel shall be included in the application. Briefly outline the organizational resources the applicant will draw upon, and how the applicant will provide the program management capability and personnel expertise to successfully perform the activities states herein. Include staffing titles and a 1-2 sentence description of the position duties. The budget should segregate documentation project costs from implementation and evaluation costs that may be incurred if considering the use of the project to incorporate countermeasure area(s). For each of these activities, identify costs by direct labor with a breakdown of costs by proposed staffing; direct materials/equipment with a breakdown of major cost items; total travel costs with an explanation of the relationship to the project; implementation and evaluation costs; and overhead. Clearly identify any financial or in-kind commitment of resources by the applicant organization or other supporting organizations to support the project.

Program Review Procedures, Criteria and Evaluation Factors

Upon receipt of the application package, each package will initially be reviewed to ensure eligibility and that the application contains all of the items specified in the Application Contents section of this announcement. Applications meeting the requirements will be reviewed by an Evaluation Committee using the criteria outlined below.

Application Review Criteria and Evaluation Factors

The application package must concisely address the following criteria:

1. Description of what the organization or existing program has accomplished or plans to accomplish which:

(a) Clearly states the goals and objectives of the program;

(b) Clearly articulates the significant contribution the program has made or plans to make in the reduction of impaired drivers by individuals age 21-34;

(c) Explains the innovation and creative features of the program. If the program is more traditional, explain what makes or will make this program successful; and

(d) Describes how the program incorporates at least one or more of the seven (7) Partners in Progress countermeasure areas including elements from the community. If none of the seven (7) Partners in Progress countermeasure areas and/or community elements have been used in an otherwise successful program, clearly identify the countermeasure area(s) that are being considered by this project.

(e) Clearly articulates this project's impact on your program and the potential to make a significant contribution to the reduction of alcohol impaired driving by individuals age 21-34. (55 percent)

Note: Please note that preference will be given to proposals that demonstrate geographic and demographic diversity, that address or desire to address multiple countermeasure areas, as well as, varying size of community(s) to be reached.

2. The work plan will be evaluated with respect to its feasibility, realism, and ability to achieve the desired outcomes. The evaluation plan will be reviewed for qualitative and quantitative measures that are identified, the practicality of the proposed methodology, and the design. (30 percent)

3. The project management and budget will be evaluated in terms a clarity of organization, sound management structure, delineation of the roles of the partners in the project. The project personnel will be reviewed in terms of qualifications and experience. The staffing of the project should be adequate to manage and implement the project. The budget should clearly identify estimated costs and provide sound rationale. In-kind contribution or financial contributions from partners or outside sources will be evaluated. (15 percent)

Those applicants whose applications are not selected will be informed in writing. Those applicants whose applications are selected will also be notified in writing.

Terms and Conditions of Award

1. Prior to award, each grantee must comply with the certification requirements of 49 CFR part 20, Department of Transportation New Restrictions on Lobbying, and 49 CFR part 29, Department of Transportation government-wide Debarment and Suspension (Non-procurement) and Government-wide Requirements for Drug Free Workplace (Grants).

2. Reporting Requirements and Deliverables:

a. Quarterly Progress Reports should include a summary of the previous quarter's activities and accomplishments, as well as the proposed activities for the upcoming quarter. Any decisions and actions required in the upcoming quarter should be included in the report. The grantee shall supply the progress report to the Contracting Officer's Technical Representative (COTR) every ninety (90) days following date of award.

b. Program Work Plan, Implementation, and Evaluation Plan Review. The grantee shall submit a revised program work plan, implementation plan, and an evaluation plan, incorporating comments received from the NHTSA COTR, no more than 1 month after award of this agreement. The NHTSA COTR will review and comment, if necessary.

c. Draft Final Report. The grantee shall prepare a Draft Final Report that includes a description of the inventive project, partners, intervention strategies, program implementation, evaluation methodology and findings from the program evaluation shall be presented in the form of a process manual. In terms of information transfer, it is important to know what worked and did not work, under what circumstances, and what can be done to avoid potential problems in future projects. The grantee shall submit the Draft Final Report to the COTR 60 days prior to the end of the performance period. The COTR will review the draft report and provide comments to the grantee within 30 days of receipt of the document.

d. Final Report. The grantee shall revise the Draft Final Report to reflect the COTR's comments. The revised final report shall be delivered to the COTR 15 days before the end of the performance period. The grantee shall supply the COTR one camera ready version of the document, as printed and one copy, on appropriate media (diskette, Syquest disk, etc.) of the document in the original program format that was used for the printing process. Some documents require several different original program languages (e.g., PageMaker for the general layout and design, PowerPoint for charts, and another program for photographs, etc.). Each of these component parts should be available on disk, properly labeled with the program format and the file names. For example, PowerPoint files should be clearly identified by both a descriptive name and file name (e.g., 1999 Fatalities—chart1.ppt). A complete version of the assembled document shall be provided in portable document format (PDF) for placement of the report on the world wide web (WWW). This will be a file usually created with the Adobe Exchange program of the complete assembled document. The document must be completely assembled with all colors, charts, side bars, photographs, and graphics. This can be delivered to NHTSA on a standard 1.44 floppy diskette (for small documents) or on any appropriate archival media (for larger documents) such as an CD ROM, TR-1 Mini cartridge, Syquest disk, etc. The grantee shall provide four additional hard copies of the final document.

e. Briefings, Presentations, and Journal Paper. The Grantee shall make a briefing to NHTSA officials and other invited parties in Washington, DC at the completion of the project. The Grantee shall make a presentation concerning the project at a minimum of one national meeting (e.g., the National Commission Against Drunk Driving, the Community Anti-Drug Coalitions Leadership Forum, or Lifesavers, etc.). The Grantee shall prepare a paper and submit it for publication in a professional journal. An interim briefing approximately midway through the period of performance, in addition to a final briefing, may be required. All briefings, presentations, and papers will be submitted to NHTSA initially in draft format for review and comment. The Grantee shall submit drafts to the COTR 60 days before event date or publication submission date. The COTR will review the draft report and provide comments to the Grantee within 30 calendar days of receipt of the documents.

3. During the effective performance period of cooperative agreements awarded as a result of this announcement, the agreement as applicable to the grantee, shall be subject to the National Highway Traffic Safety Administration's General Provisions for Assistance Agreements, dated July 1995.

Rose A. McMurray,
Associate Administrator for Traffic Safety Programs.

[FR Doc. 01-15413 Filed 6-18-01; 8:45 am]

BILLING CODE 4910-12-U